NUCLEAR REGULATORY COMMISSION

Advisory Committee on Nuclear Waste; Revised Notice of Meeting

The agenda for the 165th ACNW meeting scheduled to be held on November 14-16, 2005 has been revised to reflect the changes noted below. Notice of this meeting was previously published in the Federal Register on Thursday, November 3, 2005 (70 FR 66864).

Monday, November 14, 2005

• 10:15 a.m.-12:15 p.m.: Public Comment Session (Open)—The Committee will hear presentations from and hold discussions with interested stakeholders on the issues discussed during the earlier sessions. Scheduled presenters include: Dr. Dade Moeller, Chairman of the Board, Dade Moeller and Associates; Dr. Thomas Tenforde, President, National Council on Radiation Protection; Dr. John Kessler, Manager, Electric Power Research Institute High-Level Waste and Spent Nuclear Fuel Program; and Mr. Martin Malsh, Esq., State of Nevada.

• 1:30 p.m.-3:30 p.m.: Public Comment Session—Continued (Open)—The Committee will continue to hear presentations from and hold discussions with interested stakeholders on the issues discussed during the earlier sessions.

• 3:45 p.m.-4:15 p.m.: ACNW Roundtable Discussion (Open)—The Committee will review the matters discussed from the previous public sessions and decide whether it intends to provide advice to the Commission.

• 4:15 p.m.-5:30 p.m.: Preparation of ACNW Reports/Letters (Open)—The Committee will discuss proposed ACNW reports on matters considered during this meeting.

Tuesday and Wednesday, November 15-16, 2005

The agenda for Tuesday and Wednesday, November 15-16, 2005 remain the same as previously announced in the Federal Register on November 3, 2005.

For further information, contact Ms. Sharon A. Steele (telephone 301-415-6805) between 7:30 a.m. and 4 p.m., ET.

Dated: November 7, 2005.
Andrew L. Bates,
Advisory Committee Management Officer.

[FR Doc. E5-6244 Filed 11-10-05; 8:45 am]

BILLING CODE 7590-01-P